ENVIRONMENTAL PROTECTION AGENCY

[FRL-8324-8]

Clean Water Act Section 303(d): Availability of List Decisions

AGENCY: Environmental Protection Agency.

ACTION: Notice of Availability.

SUMMARY: This notice announces the availability of EPA's Responsiveness Summary Concerning EPA's March 31, 2005 Public Notice of Final Decisions to Add Waters and Pollutants to Louisiana's 2002 and 2004 Section 303(d) Lists.

On April 12, 2005, EPA published a notice in the Federal Register at Volume 70, Number 69, pages 19079-19080 providing the public the opportunity to review its final decisions to add waters and pollutants to Louisiana's 2002 and 2004 Section 303(d) Lists as required by EPA's Public Participation regulations (40 CFR Part 25). Based on the Responsiveness Summary, no further action is warranted regarding EPA's Final Action on Louisiana's 2002 and 2004 Section 303(d) Lists.

ADDRESSES: Copies of EPA's Responsiveness Summary Concerning EPA's March 31, 2005 Public Notice of Final Decisions to Add Waters and Pollutants to Louisiana's 2002 and 2004 Section 303(d) Lists can be obtained at EPA Region 6's Web site at http://www.epa.gov/region6/water/npdes/tmdl/eparesponsecommentsver2.pdf, or by writing or calling Ms. Diane Smith at Water Quality Protection Division, U.S. Environmental Protection Agency Region 6, 1445 Ross Ave., Dallas, TX 75202-2733, telephone (214) 665-2145, facsimile (214) 665-6490, or e-mail: smith.diane@epa.gov. Underlying documents from the administrative record for these decisions are available for public inspection at the above address. Please contact Ms. Smith to schedule an inspection.

FOR FURTHER INFORMATION CONTACT: Diane Smith at (214) 665-2145.

SUPPLEMENTARY INFORMATION: Section 303(d) of the Clean Water Act (CWA) requires that each state identify those waters for which existing technology-based pollution controls are not stringent enough to attain or maintain state water quality standards. For those waters, states are required to establish Total Maximum Daily Loads (TMDLs) according to a priority ranking.

EPA's Water Quality Planning and Management regulations include requirements related to the implementation of Section 303(d) of the CWA (40 CFR 130.7). The regulations require states to identify water quality limited waters still requiring TMDLs every two years. The list of waters still needing TMDLs must also include priority rankings and must identify the waters targeted for TMDL development during the next two years (40 CFR 130.7). On March 31, 2000, EPA promulgated a revision to this regulation that waived the requirement for states to submit Section 303(d) Lists in 2000 except in cases where a court order, consent decree, or settlement agreement required EPA to take action on a list in 2000 (65 FR 17170).

Consistent with EPA's regulations, Louisiana submitted to EPA its 2002 and 2004 listing decisions under Section 303(d) on August 21, 2003 and April 1, 2004 respectively. On March 31, 2005, EPA approved Louisiana's 2002 listing of 442 water body-pollutant combinations and associated priority rankings and Louisiana's 2004 listing of 444 water body-pollutant combinations and associated priority rankings. EPA disapproved Louisiana's 2002 listing decisions not to list 44 water quality limited segments and associated pollutants (or 69 water body-pollutant combinations) and Louisiana's 2004 listing decisions not to list 14 water quality limited segments and associated pollutants (or 17 water body-pollutant combinations). EPA identified these additional waters and pollutants along with priority rankings for inclusion on the 2002 and 2004 Section 303(d) Lists.

Dated: May 31, 2007.
Miguel I. Flores
Director, Water Quality Protection Division, Region 6.

[FR Doc. E7-11209 Filed 6-8-07; 8:45 am]

BILLING CODE 6560-50-P